DEPARTMENT OF TRANSPORTATION

Solicitation for Annual Combating Human Trafficking in Transportation Impact Award

AGENCY: Office of the Secretary of Transportation, U.S. Department of Transportation.

ACTION: Notice.

SUMMARY: Pursuant to a recommendation by the Department of Transportation (DOT or the Department) Advisory Committee on Human Trafficking, the Secretary of Transportation is launching the annual Combating Human Trafficking in Transportation Impact Award (“the award”) to incentivize an increase in human trafficking awareness, training, and prevention among transportation stakeholders. The award will be a component of the Department's Transportation Leaders Against Human Trafficking initiative. Additional information regarding the Department's counter-trafficking activities can be found at www.transportation.gov/stophumantrafficking.

The award serves as a platform for transportation stakeholders to unlock their creativity, and empower them to develop impactful and innovative counter-trafficking tools, initiatives, campaigns, and technologies that can help defeat this heinous crime. The award is open to individuals and entities, including non-governmental organizations, transportation industry associations, research institutions, and State and local government organizations. Entrants compete for a $50,000 cash award that will be awarded to the individual(s) or entity selected for creating the most impactful counter-trafficking initiative or technology. The Department of Transportation intends to incentivize individuals and entities to think creatively in developing innovative solutions to combat human trafficking in the transportation industry, and to share those innovations with the broader community.

DATES: Submissions accepted January 1, 2020 through midnight on January 31, 2020.

FOR FURTHER INFORMATION CONTACT: For more information, and to register your intent to compete individually or as part of a team, visit www.transportation.gov/stophumantrafficking, email trafficking@dot.gov, or contact the Office of International Transportation and Trade at (202) 366-4398.

SUPPLEMENTARY INFORMATION:

Award Approving Official: Elaine L. Chao, Secretary of Transportation.

Subject of Award Competition: The Secretary's Combating Human Trafficking in Transportation Impact Award will recognize impactful and innovative approaches to combating human trafficking in the transportation industry.

Problem

As many as 24.9 million men, women, and children are held against their will and trafficked into forced labor and prostitution. Transportation figures prominently in human trafficking enterprises when traffickers move victims, which uniquely positions the industry to combat the crime.

Challenge

The Human Trafficking in Transportation Impact Award is looking for the best innovators to develop original, impactful, and innovative human trafficking tools, initiatives, campaigns, and technologies that can help defeat this heinous crime in the transportation industry.

Eligibility

To be eligible to participate in the Secretary's Combating Human Trafficking in Transportation Impact Award competition, private entities must be incorporated in and maintain a primary place of business in the United States, and individuals must be citizens or permanent residents of the United States. There is no charge to enter the competition.

Rules, Terms, and Conditions

The following additional rules apply:

1. Entrants shall submit a project to the competition under the rules promulgated by the Department in this Notice;

2. Entrants must indemnify, defend, and hold harmless the Federal Government from and against all third-party claims, actions, or proceedings of any kind and from any and all damages, liabilities, costs, and expenses relating to or arising from participant's submission or any breach or alleged breach of any of the representations, warranties, and covenants of participant hereunder. Entrants are financially responsible for claims made by a third party;

3. Entrants may not be a Federal entity or Federal employee acting within the scope of employment;

4. Entrants may not be an employee of the Department;

5. Entrants shall not be deemed ineligible because an individual used Federal facilities or consulted with Federal employees during a competition, if the facilities and employees are made available to all individuals participating in the competition on an equitable basis;

6. The competition is subject to all applicable Federal laws and regulations. Participation constitutes the Entrants' full and unconditional agreement to these rules and to the Secretary's decisions, which are final and binding in all matters related to this competition;

7. Entries which in the Secretary's sole discretion are determined to be substantially similar to a prior submitted entry may be disqualified;

8. Entries must be original, be the work of the entrant and/or nominee, and must not violate the rights of other parties. All entries remain the property of the entrant. Each entrant represents and warrants that:

• Entrant is the sole author and owner of the submission;

• The Entry is not the subject of any actual or threatened litigation or claim;

• The Entry does not and will not violate or infringe upon the intellectual property rights, privacy rights, publicity rights, or other legal rights of any third party; and

• The Entry does not and will not contain any harmful computer code (sometimes referred to as “malware,” “viruses,” or, “worms”).

9. By submitting an entry in this competition, entrants agree to assume any and all risks and waive any claims against the Federal Government and its related entities (except in the case of willful misconduct) for any injury, death, damage, or loss of property, revenue or profits, whether direct, indirect, or consequential, arising from their participation in this competition, whether the injury, death, damage, or loss arises through negligence of otherwise. Provided, however, that by registering or submitting an entry, entrants and/or nominees do not waive claims against the Department arising out of the unauthorized use or disclosure by the agency of the intellectual property, trade secrets, or confidential information of the entrant;

10. The Secretary and/or the Secretary's designees have the right to request additional supporting documentation regarding the application from the entrants and/or nominees;

11. The entries cannot have been submitted in the same or substantially similar form in any previous Federally-sponsored promotion or Federally-sponsored competition, of any kind;

12. Each entrant grants to the Department, as well as other Federal agencies with which it partners, the right to use names, likeness, application materials, photographs, voices, opinions, and/or hometown and state for the Department's promotional purposes in any media, in perpetuity, worldwide, without further payment or consideration;

13. If selected, the entrant and/or nominee must provide written consent granting the Department and any parties acting on their behalf, a royalty-free, non-exclusive, irrevocable, worldwide license to display publicly and use for promotional purposes the entry (“demonstration license”). This demonstration license includes posting or linking to the entry on Department websites, including the Competition website, and partner websites, and inclusion of the entry in any other media, worldwide;

14. Applicants which are Federal grantees may not use Federal funds to develop submissions;

15. Federal contractors may not use Federal funds from a contract to develop applications or to fund efforts in support of a submission; and

16. The submission period begins on January 1, 2020. Submissions must be sent by 11:59 p.m. Pacific standard time on January 31, 2020. The timeliness of submissions will be determined by the postmark (if sent in hard copy) or time stamp of the recipient (if emailed). Competition administrators assume no responsibility for lost or untimely submissions for any reason.

Expression of Interest: While not required, entrants are strongly encouraged to send brief expressions of interest to the DOT prior to submitting entries. The expressions of interest should be sent by January 15, 2020 to trafficking@dot.gov, and include the following elements: (1) Name of entrant/s; (2) telephone and email address; and (3) a synopsis of the concept, limited to no more than two pages.

Submission Requirements

Applicants must submit entries via email to or by mail. Electronic packages may be transmitted by email to trafficking@dot.gov. Hard copies should be forwarded with a cover letter to the attention of Secretary's Combating Human Trafficking in Transportation Impact Award, (Room W88-121), 1200 New Jersey Avenue SE, Washington, DC 20590.

Complete submission packages shall consist of the following elements:

1. Eligibility Statement

A statement of eligibility by private entities indicating that they are incorporated in and maintain a primary place of business in the United States, or a statement of eligibility by individuals indicating that they citizens or permanent residents of the United States.

2. Summary (1 Page)

An overall summary of the project that includes: (a) The project title, (b) a one paragraph synopsis, and, (c) a statement of the potential impact the concept will have on combating human trafficking in the transportation industry.

3. Supporting Documents (No Page Limit)

The paper(s) and/or technologies, programs, video/audio files, and other related materials, describing the project and addressing the selection criteria. As applicable, this can include a description of success of a previous or similar project and/or documentation of impact. You may also submit supporting letters, which may be from subject matter experts or industry, which may address the technical merit of the concept, originality, impact, practicality, measurability and/or applicability. DOT may request additional information, including supporting documentation, more detailed contact information, releases of liability, and statements of authenticity to guarantee the originality of the work. Failure to respond in a timely manner may result in disqualification.

Initial Screening

The Office of International Transportation and Trade will initially review applications to determine that all required submission elements are included and to determine compliance with eligibility requirements.

Evaluation

After Initial Screening, the Office of International Transportation and Trade, with input from the relevant Operating Administrations, will judge entries based on the factors described below: Technical merit, originality, impact, practicality, measurability, and applicability. All factors are important and will be given consideration.

The Office of International Transportation and Trade will present the most highly qualified entries to Assistant Secretary for Aviation and International Affairs, who will make recommendations to the Secretary of Transportation.

The Secretary will make the final selection.

The Department reserves the right to not award the prize if the selecting officials believe that no submission demonstrates sufficient potential for sufficient transformative impact.

Technical Merit

• Has the submission presented a clear understanding of the issue of human trafficking in the transportation industry?

• Has the submission developed a logical and workable solution and approach to addressing the problem?

• What are the most unique merits of this concept?

• Were survivors of human trafficking consulted on the merits of the project?

• Has the submission clearly described the breadth of impact of the project?

Originality

• Is this concept new or a variation of an existing idea, and in what way(s)?

• How is this work unique?

Impact

• To what extent will this project make a significant impact and/or contribution to the fight against human trafficking in the transportation industry?

• Which aspects of the issue of human trafficking is the submission attempting to address?

Practicality

• Who directly benefits from this work?

• Can this program or activity be implemented in a way that requires a finite amount of resources? Specifically, does the submission have high or low fixed costs, low or no marginal costs, and a clear path to implementation and scale beyond an initial investment?

• What are the anticipated resources and costs to be incurred by executing this concept?

Measurability

• How has this individual/group measured the impact of the project?

• To what extent does the project result in measurable improvements?

Applicability

• Can this effort be scaled?

• Is this work specific to one region, various regions, or to the entire nation?

Award

One winning entry is expected to be announced and will receive a cash prize of up to $50,000. A plaque with the winner(s) name and date of award will be on display at the Department of Transportation, and a display copy of the plaque(s) will be sent to the winner's headquarters. At the discretion of the Secretary, up to two additional plaques may be awarded to recognize the second and third place entrants. At the option of the Secretary of Transportation, DOT will pay for invitational travel expenses to Washington, DC for up to two individuals or representatives of the winning organization should selectees be invited to present their project/s for DOT officials.

Authority: 15 U.S.C. 3719 (America COMPETES Act).

Issued on: December 12, 2019.
Joel Szabat,
Acting Under Secretary of Transportation for Policy.

[FR Doc. 2019-27231 Filed 12-17-19; 8:45 am]

BILLING CODE 4910-9X-P